JUDICIAL CONFERENCE OF THE UNITED STATES

Meeting of the Judicial Conference Advisory Committees on Rules of Bankruptcy, Civil, and Criminal Procedure, and Rules of Evidence

AGENCY: Judicial Conference of the United States Advisory Committees on Rules of Bankruptcy, Civil, and Criminal Procedure, and Rules of Evidence.

ACTION: Notice of open hearings.

SUMMARY: The Advisory Committees on Rules of Bankruptcy, Civil, and Criminal Procedure, and Rules of Evidence have proposed the following rules:

Bankruptcy Rules: 1007, 2003, 2009, and 2016, and new Rule 7007.1, and Official Forms 1, 5, and 17.

Civil Rules: 23, 51, and 53.

Criminal Rule: 35.

Evidence Rules: 608 and 804.

Public hearings are scheduled to be held on the amendments to:

• Bankruptcy Rules in Washington, D.C., on January 4, 2002;

• Civil Rules in San Francisco, California, on November 30, 2001; in Washington, DC, on January 22, 2002; and in Dallas, Texas, on February 4, 2002;

• Criminal Rules in Atlanta, Georgia, on January 7, 2002; and

• Evidence Rules in Washington, DC, on January 23, 2002.

The Judicial Conference Committee on Rules of Practice and Procedure submits these rules for public comment. All comments and suggestions with respect to them must be placed in the hands of the Secretary as soon as convenient and, in any event, not later than February 15, 2002. Those wishing to testify should contact the Secretary at the address below in writing at least 30 days before the hearing. All written comments on the proposed rule amendments should be mailed to: Peter G. McCabe, Secretary, Committee on Rules of Practice and Procedure of the Judicial Conference of the United States, Thurgood Marshall Federal Judiciary Building, Washington, DC 20544.

Comments on the proposed rule amendments may also be sent electronically via the Internet at <http://www.uscourts.gov/rules>. In accordance with established procedures all comments submitted on the proposed amendments are available to public inspection.

The text of the proposed rule amendments and the accompanying Committee Notes can be found at the United States Federal Courts' Home Page at <http://www.uscourts.gov/rules> on the Internet.

FOR FURTHER INFORMATION CONTACT: John K. Rabiej, Chief Rules Committee Support Office, Administrative Office of the United States Courts, Washington, DC 20544, telephone (202) 502-1820.

Dated: August 22, 2001.
John K. Rabiej,
Chief, Rules Committee Support Office.

[FR Doc. 01-21730 Filed 8-28-01; 8:45 am]

BILLING CODE 2210-55-M